DEPARTMENT OF COMMERCE

National Oceanic and Atmospheric Administration

RIN 0648-XV65

Marine Mammals; File No. 1100-1849

AGENCY: National Marine Fisheries Service (NMFS), National Oceanic and Atmospheric Administration (NOAA), Commerce.

ACTION: Notice; issuance of permit amendment.

SUMMARY: Notice is hereby given that Shane Moore, Moore & Moore Films, Box 2980, 1203 Melody Creek Lane, Jackson, WY 83001 has been issued an amendment to Permit No. 1100-1849.

ADDRESSES: The amendment and related documents are available for review upon written request or by appointment in the following offices:

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Carrie Hubard or Amy Hapeman, (301)713-2289.

SUPPLEMENTARY INFORMATION: On September 29, 2009, notice was published in the Federal Register (74 FR 49858) that an amendment to Permit No. 1100-1849 had been requested by the above-named individual. The requested amendment has been granted under the authority of the Marine Mammal Protection Act of 1972, as amended (16 U.S.C. 1361 et seq.) and the regulations governing the taking and importing of marine mammals (50 CFR part 216).

Permit No. 1100-1849, issued March 22, 2007 (72 FR 14525), authorizes the permit holder to take 10 killer whales (Orcinus orca) of the Eastern North Pacific Transient Stock, 10 gray whales (Eschrichtius robustus), and 10 minke whales (Balaenoptera acutorostrata) by close approach for filming in the Gulf of Alaska and Bering Sea between April 1 and August 31 of each year. The original permit was valid through March 31, 2010. The amendment extends the permit for two years until March 31, 2012.

In compliance with the National Environmental Policy Act of 1969 (42 U.S.C. 4321 et seq.), a final determination has been made that the activity proposed is categorically excluded from the requirement to prepare an environmental assessment or environmental impact statement.

Dated: April 5, 2010.
Tammy C. Adams,
Acting Chief, Permits, Conservation and Education Division, Office of Protected Resources, National Marine Fisheries Service.

[FR Doc. 2010-8137 Filed 4-8-10; 8:45 am]

BILLING CODE 3510-22-S